Proclamation 10986 of October 17, 2025

National Energy Dominance Month, 2025

By the President of the United States of America

A Proclamation

From the Appalachian Mountains to the Mississippi River to the Great Plains and beyond, for nearly 250 years, America has been endlessly sustained and enriched by our abundance of precious natural resources like oil, clean coal, minerals, and natural gas. This National Energy Dominance Month, my Administration proudly recommits to harnessing the liquid gold and minerals under our feet and bountiful resources in our waters, forests, and fields, achieving American energy dominance, and forging a future defined by three simple words: “Drill, baby, drill.”

During my first term in office, America became the number one producer of oil and natural gas in the world and the coal industry was coming back—after eight hard years of Obama's War on Coal. Tragically, after the conclusion of my first term, the previous administration launched a war on American energy—reversing all of my historic first term actions, leading all 50 States to hit record-high gas prices. Meanwhile, the Green New Scam shuttered dozens of coal plants leaving our power grid vulnerable, halted mining productions, and shipped our energy jobs from Texas to Tehran, from the Midwest to Moscow, and from Baton Rouge to Beijing. As I have stated many times before, energy security is national security. My predecessor outrageously depleted our Strategic Petroleum Reserve—emboldening our enemies and making us reliant on foreign nations while subjecting the American people to sky-high energy prices here at home.

This period of national self-destruction ended on January 20, 2025. As the 47th President of the United States, my energy policy is defined by maximum production, maximum prosperity, and maximum power. On my first day in office, I declared a National Energy Emergency to lower escalating energy prices. I signed an Executive Order to unleash American energy, which rolled back energy restrictions imposed by the previous administration. I established the National Energy Dominance Council to ensure the American energy industry maintains its global leadership in the decades to come. I also took action to revive America's dominance in offshore critical minerals and resources, lift burdensome regulations on coal plants to ensure they can continue to run, launch the nuclear energy renaissance, and open up the Arctic National Wildlife Refuge in Alaska, one of the largest drilling sites in the world. Every day, we are making good on our promise to restore the United States as a global energy superpower—and our work has only just begun. Now, under my Administration, our workers are drilling, mining, and producing like never before.

This month, we continue our crusade to bring back American energy dominance, uplift the American worker, protect the American industry, cherish American resources, and make America the most prosperous country on the face of the Earth.

NOW, THEREFORE, I, DONALD J. TRUMP, President of the United States of America, by virtue of the authority vested in me by the Constitution and the laws of the United States, do hereby proclaim October 2025 as National Energy Dominance Month.

IN WITNESS WHEREOF, I have hereunto set my hand this seventeenth day of October, in the year of our Lord two thousand twenty-five, and of the Independence of the United States of America the two hundred and fiftieth.

[FR Doc. 2025-19641

Filed 10-21-25; 11:15 am]

Billing code 3395-F4-P